NUCLEAR REGULATORY COMMISSION

[NCR-2013-0181]

Georgia Agreement State Program

AGENCY: Nuclear Regulatory Commission.

ACTION: Discontinuance of the probation period for the Georgia Agreement State Program.

SUMMARY: The U.S. Nuclear Regulatory Commission (NRC) is announcing the discontinuation of the probation period for the Georgia Agreement State Program (Georgia Program).

DATES: The discontinuation of the probation period is effective on August 25, 2014.

ADDRESSES: Please refer to Docket ID NRC-2013-0181 when contacting the NRC about the availability of information regarding this document. You may obtain publicly-available information related to this action by the following methods:

• Federal Rulemaking Web site: Go to http://www.regulations.gov and search for Docket ID NRC-2013-0181. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Michelle Beardsley, Office of Federal and State Materials and Environmental Management Programs, U.S. Nuclear Regulatory Commission, Region I, King of Prussia, PA, telephone: 610-337-6942, email: Michelle.Beardsley@nrc.gov.

SUPPLEMENTARY INFORMATION: Section 274b. of the Atomic Energy Act of 1954, as amended (AEA), provides the statutory basis by which the NRC relinquishes, by agreement with a State, portions of its regulatory authority to license and regulate byproduct materials, source materials, and quantities of special nuclear materials under critical mass, when the NRC determines that the State has an adequate radiation control program to protect public health and safety, which is compatible with the NRC's program. Through the Agreement State program, 37 States have signed formal agreements with the NRC.

Section 274j of the AEA requires that the NRC periodically review each Agreement State to ensure each State's regulatory program is adequate to protect public health and safety and compatible with the NRC's regulatory program. The NRC reviews Agreement State radiation control programs, using performance indicators, to ensure that public health and safety is being adequately protected. The periodic review process for Agreement State programs is called the Integrated Materials Performance Evaluation Program (IMPEP).

A Management Review Board (MRB) composed of senior NRC managers (with an Agreement State liaison attending) makes the final determination of adequacy for each Agreement State. The MRB holds a public meeting and makes the overall assessment of the Agreement State program. The MRB considers information such as the proposed final IMPEP report, which presents suggested performance indicator ratings and recommendations prepared by the IMPEP review team, the State response to the IMPEP report and information provided by the State during the MRB meeting. For most IMPEP reviews, no action other than issuance of the final IMPEP report is required. For those infrequent reviews where additional action is warranted, the MRB may consider Monitoring, Heightened Oversight, and recommendations for Probation, Suspension, or Termination. The most significant actions, Probation, Suspension, or Termination, require Commission approval.

In 2008, the MRB placed the Georgia Program under a condition of monitoring due to the results of the 2008 IMPEP review of the Georgia Program. The Commission placed the Georgia Program on probation based on the 2012 IMPEP review, which showed an overall programmatic decline in performance. The NRC issued a notice regarding the probation status of the Georgia Program in the Federal Register on August 9, 2013 (78 FR 48726).

After the most recent IMPEP review in 2014 (ADAMS Accession No. ML14121A618), the MRB found the overall Georgia Program adequate to protect public health and safety, and compatible with the NRC program requirements, but that it needs improvement. The MRB found that the Georgia Program performance improved overall since the 2012 review and closed several recommendations from the 2012 report. As a result of the State's improvement, the MRB recommended to the Commission that the Georgia Program be placed on Heightened Oversight and removed from Probation. The Commission agreed that the Georgia Program should be removed from Probation. The NRC has issued a notification of discontinuance of the Probation period to the Governor of Georgia, the Georgia Congressional delegation, and all other Agreement and Non-Agreement States.

Dated at Rockville, Maryland, this 29th day of August 2014.
For the Nuclear Regulatory Commission.
Raymond K. Lorson,
Acting Deputy Director, Office of Federal and State Materials and Environmental Management Programs.

[FR Doc. 2014-21192 Filed 9-4-14; 8:45 am]

BILLING CODE 7590-01-P